DEPARTMENT OF ENERGY

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. Comments are invited on whether the proposed collection of information is necessary for the proper performance of the functions of the agency, including whether the information shall have practical utility; the accuracy of the agency's estimate of the burden of the proposed collection of information, including the validity of the methodology and assumptions used; ways to enhance the quality, utility, and clarity of the information to be collected; and ways to minimize the burden of the collection of information on respondents, including through the use of automated collection techniques or other forms of information technology.

DATES: Comments regarding this proposed information collection must be received on or before April 10, 2020. If you anticipate difficulty in submitting comments within that period, contact the person listed in ADDRESSES as soon as possible.

ADDRESSES: Written comments may be sent to STEM_Data_Collection@ee.doe.gov.

FOR FURTHER INFORMATION CONTACT: Requests for additional information or copies of the information collection instrument and instructions should be directed to Emily Stanton at (202) 287-5641.

SUPPLEMENTARY INFORMATION: This information collection request contains: (1) OMB No. “New”; (2) Information Collection Request Title: STEM Data Collection (SDC); (3) Type of Request: New; (4) Purpose: This new module will be installed on existing platforms—the Funding Opportunity Exchange platform (Exchange) and NEUP.gov. These systems allow principal investigators and other external users to submit applications for competitive Funding Opportunity Announcements (FOAs) for research projects in the fields of science, technology, engineering and math (STEM). Exchange is used by the following DOE program offices: The Office of Energy Efficiency and Renewable Energy (EERE) and the Advanced Research Projects Agency-Energy (ARPA-E); NEUP.gov is used by the Office of Nuclear Energy (NE). NE may also use manual data collections on other selected FOAs. All competitive FOAs get announced to the Grants.gov website, the U.S. Government's single access point for most financial assistance programs offered by DOE. Under the proposed information collection request, an interface will be implemented in these systems to allow external users to voluntarily provide a minimal amount of demographic information to comply with a recommendation from the Government Accountability Office (GAO) report “WOMEN IN STEM RESEARCH; Better Data and Information Sharing Could Improve Oversight of Federal Grant-making and Title IX Compliance” (GAO-16-14, December 2015). In this report, GAO made the recommendation that DOE collect additional demographic data to ensure that it is in compliance with Title IX. The information collected will be used for this purpose; (5) Annual Estimated Number of Respondents: According to the most recent data available, in fiscal year 2015, EERE reviewed a total of 5,168 new funding actions or applications (898 lab funding actions; 4,270 financial assistance concept papers or applications); ARPA-E reviewed a total of 3,435 new funding actions or applications (51 lab funding actions; 3834 financial assistance concept papers or applications); and NE reviewed a total of 438 new funding actions or applications (266 lab funding actions; 172 financial assistance concept papers or applications). While many applications are submitted by existing users, assuming one submitter per application, the maximum number of unique new users expected per year is 9,041 (5,168 + 3,435 + 438); (6) Annual Estimated Number of Total Responses: 9,041 (maximum of one response expected per user); (7) Annual Estimated Number of Burden Hours: It is estimated that it will take no more than 10 minutes (0.167 hours) per new user to register on the Exchange or NEUP.gov systems and fill out the requested demographic data. The total estimated annual number of burden hours is 1,513 hours (9,041 users * 0.167 hours); (8) Annual Estimated Reporting and Recordkeeping Cost Burden: $100,000 for changes to systems and approximately $10,000 per year thereafter for maintenance, reporting and record-keeping.

Statutory Authority: Section 641 of the Department of Energy Organization Act, codified at 42 U.S.C. 7251.

Signed in Washington, DC on January 8, 2020.
Emily Stanton,
Director of the Office of Strategic Programs, Office of Energy Efficiency and Renewable Energy (EERE).

[FR Doc. 2020-02674 Filed 2-10-20; 8:45 am]

BILLING CODE 6450-01-P